DEPARTMENT OF THE INTERIOR

Bureau of Land Management

[CACA-051552, LLCAD07000 L51010000.FX0000 LVRWB10B3980]

Notice of Availability of a Draft Environmental Impact Statement for the Proposed McCoy Solar Energy Project and Possible Land Use Plan Amendment, Riverside County, CA

AGENCY: Bureau of Land Management, Interior.

ACTION: Notice of Availability.

SUMMARY: In accordance with the National Environmental Policy Act of 1969, as amended, and the Federal Land Policy and Management Act of 1976, as amended, the Bureau of Land Management (BLM) Palm Springs/South Coast Field Office, Palm Springs, California, has prepared a Draft California Desert Conservation Area (CDCA) Plan Amendment (PA) and Draft Environmental Impact Statement (EIS) for McCoy Solar, LLC's right-of-way (ROW) application for the McCoy Solar Energy Project (MSEP), and by this notice is announcing the opening of the comment period.

DATES: To ensure comments will be considered, the BLM must receive written comments on the Draft EIS/PA within 90 days following the date the Environmental Protection Agency publishes its Notice of Availability in the Federal Register. The BLM will announce future meetings or hearings and any other public involvement activities at least 15 days in advance through public notices, media releases, and/or mailings.

ADDRESSES: You may submit comments related to the Draft EIS by any of the following methods:

• Web site http://www.ca.blm.gov/elcentro.

• Email: camccoysep@blm.gov.

• Fax: 951-697-5299.

• Mail: ATTN: Jeffery Childers, Project Manager, BLM California Desert District Office, 22835 Calle San Juan de Los Lagos, Moreno Valley, California 92553-9046.

Copies of the Draft EIS/PA are available in the California Desert District Office at the above address.

FOR FURTHER INFORMATION CONTACT: For further information, or to have your name added to our mailing list, contact Jeffery Childers; telephone 951-697-5308; address BLM California Desert District Office, 22835 Calle San Juan de Los Lagos, Moreno Valley, California 92553-9046; email jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, McCoy Solar, LLC, has requested a ROW authorization to construct, operate, maintain, and decommission an up to 750 megawatt (MW) photovoltaic solar energy generation facility and necessary ancillary facilities on about 7,700 acres of BLM managed lands with a footprint of approximately 4,893 acres for the solar facility. The proposed 16-mile generation tie line, with a ROW width of 100 feet, will require about 200 acres of public and private lands. The proposed 20-acre switch yard will be located adjacent to and connect into Southern California Edison's Colorado River Substation. The MSEP site is located approximately 13 miles northwest of the City of Blythe, California, and approximately 32 miles east of Desert Center.

The BLM will decide whether to grant, grant with modification, or deny a ROW to McCoy Solar, LLC, for the proposed MSEP. The BLM is proposing to amend the CDCA Plan by designating the project area as either available or unavailable for solar energy projects. The CDCA Plan (1980, as amended), while recognizing the potential compatibility of renewable energy generation facilities with other uses on public lands, requires that all sites proposed for power generation or transmission not already identified in the CDCA Plan be considered through the plan amendment process. If the BLM decides to grant a ROW for this project, the CDCA Plan would be amended as required.

In addition to the proposed action and a no action alternative, the BLM is analyzing a reduced acreage alternative and a reconfigured generation tie line alternative. The Draft EIS/PA also analyzes two no-project alternatives that reject the project but amend the CDCA Plan to make the project area either:

(1) Available for future solar generation energy projects; or

(2) Unavailable for future solar energy generation projects.

The BLM's Preferred Alternative has been identified as the Proposed Action.

The Draft EIS/PA evaluates the potential impacts of the proposed MSEP on air quality, biological resources, cultural resources, water resources, geological resources and hazards, land use, noise, paleontological resources, public health, socioeconomics, soils, traffic and transportation, visual resources, wilderness characteristics, and other resources.

A Notice of Intent to Prepare an EIS/Environmental Impact Report for the MSEP project was published in the Federal Register on August 29, 2011 (76 FR 167). The BLM and Riverside County held public scoping meetings in Palm Desert and Blythe on September 20, 2011 and October 19, 2011. The formal scoping period ended on November 18, 2011.

Please note that public comments and information submitted including names, street addresses, and email addresses of persons who submit comments will be available for public review and disclosure at the above address during regular business hours (8 a.m. to 4 p.m.), Monday through Friday, except holidays.

Before including your phone number, email address, or other personal identifying information in your protest, you should be aware that your entire protest—including your personal identifying information—may be made publicly available at any time. While you can ask us in your protest to withhold your personal identifying information from public review, we cannot guarantee that we will be able to do so.

Authority: 40 CFR 1506.6 and 1506.10; 43 CFR 1610.2 and 1610.5

Cindy Staszak,
Acting Deputy State Director, California.

[FR Doc. 2012-12560 Filed 5-24-12; 8:45 am]

BILLING CODE 4310-40-P